DEPARTMENT OF ENERGY

Federal Energy Regulatory Commission

[Project Nos. 2395-020,2421-020, 2473-019 and 2640-027]

Wisconsin Department of Natural Resources v. Flambeau Hydro, L.L.C.; Notice of Complaint

January 7, 2003.

Take notice that on December 11, 2002, the State of Wisconsin Department of Natural Resources (Wisconsin DNR) filed a complaint pursuant to Rule 206 of the Commission's Rules of Practice and Procedure, 18 CFR 385.206 (2002), and part I of the Federal Power Act, 16 U.S.C. 791, et seq., against Flambeau Hydro, L.L.C. (Flambeau), licensee for the Pixley Project No. 2395, Lower Project No. 2421, Crowley Rapids Project No. 2473, and Upper Project No. 2640. The projects are located on the north fork of the Flambeau River in Price County, Wisconsin.

Wisconsin DNR states that Flambeau has failed to file with the Commission 22 compliance submittals required by the licenses for the above named projects and 7 other submittals required by the Commission staff. Wisconsin DNR requests Commission action, including imposition of penalties of up to $10,000 per day for each instance of noncompliance with license and Commission staff requirements as described in a June 18, 2002 Commission staff compliance order. Wisconsin DNR also seeks revocation of the licenses if Flambeau has not completed all required licensee consultations with resource agencies and submitted all compliance filings within 90 days of the issuance date of this notice.

Copies of the complaint are on file with the Commission and are available for public inspection in the Commission's Public Reference Room. The complaint may also be viewed on the Internet at http://www.ferc.gov using the “RIMS” link, select “Docket#” and follow the instructions (call 202-208-2222 for assistance).

Any person desiring to be heard or to protest this filing should file comments, a motion to intervene, or a protest with the Federal Energy Regulatory Commission, 888 First Street, NE., Washington, DC 20426, in accordance with rules 211 and 214 of the Commission's rules of practice and procedure (18 CFR 385.211 and 385.214).

The licensee's answer to the complaint and all comments, motions, or protests must be filed on or before January 23, 2003. Any entity wishing to become a party must file a motion to intervene. The answer to the complaint, comments, motions to intervene, and protests may be filed electronically via the internet in lieu of paper. See 18 CFR 385.2001(a)(1)(ii), and the instructions on the Commission's Web site under the “e-filing” link. The Commission strongly encourages electronic filings.

Magalie R. Salas,
Secretary.

[FR Doc. 03-700 Filed 1-13-03; 8:45 am]

BILLING CODE 6717-01-P